NATIONAL SCIENCE FOUNDATION

Special Emphasis Panel in Information and Intelligent Systems; Notice of Meetings

In accordance with the Federal Advisory Committee Act (Pub. L. 92-463, as amended), the National Science Foundation announces the following meetings of the Special Emphasis Panel in Information and Intelligent Systems (#1200):

Date/Time and Place

January 29-30, 2001; 8 a.m.-5 p.m.—National Science Foundation, 4201 Wilson Boulevard, Arlington, VA

February 5-6, 2001; 8 a.m.-5 p.m.—National Science Foundation, 4201 Wilson Boulevard, Arlington, VA

February 8-9, 2001; 8 a.m.-5 p.m.—Westin LAX Los Angeles, CA

February 12-13, 2001; 8 a.m.-5 p.m.—National Science Foundation, 4201 Wilson Boulevard, Arlington, VA

February 22-23, 2001; 8 a.m.-5 p.m.—Westin LAX Los Angeles, CA

Type of Meetings: Closed.

Contact Person: Michael Lesk, National Science Foundation, 4201 Wilson Boulevard, Room 1115, Arlington, VA 22230, (703) 292-8930.

Purpose of Meeting: To provide advice and recommendations concerning proposals submitted to NSF for financial support.

Agenda: To review and evaluate Information Technology Research pre-proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: January 8, 2000.
Karen J. York,
Committee Management Officer.

[FR Doc. 01-884 Filed 1-10-01; 8:45 am]

BILLING CODE 7555-01-M